DEPARTMENT OF COMMERCE

National Oceanic and Atmospheric Administration

50 CFR Part 648

[Docket No. 000407096-0096-01; I.D. 040300C]

RIN 0648-AN51

Fisheries of the Northeastern United States; Northeast Multispecies Fishery; Framework Adjustment 33 to the Northeast Multispecies Fishery Management Plan

AGENCY: National Marine Fisheries Service (NMFS), National Oceanic and Atmospheric Administration (NOAA), Commerce.

ACTION: Final rule and 2000 target total allowable catch (TAC) levels.

SUMMARY: NMFS issues this final rule to establish 2000 target TACs for five Northeast multispecies fisheries and to implement measures contained in Framework Adjustment 33 of the Northeast Multispecies Fishery Management Plan (FMP). This final rule implements management measures that include the following:

A continuation of the current Gulf of Maine (GOM) cod trip limit and the current GOM area closures;

Two conditional 1-month closed areas (portions of Massachusetts Bay and Stellwagen Bank in January and Cashes Ledge in November), which would become effective if preliminary landings through July 31, 2000, indicate that more than 1.67 million lb (759 mt) of GOM cod have been landed;

A 1-year extension of the Western GOM year-round closure, which otherwise would expire on April 30, 2001;

The closure of a portion of Georges Bank (GB) east and southeast of Cape Cod during May to vessels fishing for multispecies and the removal of a regulatory provision that gave the Administrator, Northeast Region, NMFS (Regional Administrator), the authority to reduce the GB cod trip limit;

A continuation of the GB cod landing limit;

A haddock daily landing limit of 3,000 lb/days at sea (DAS) (1,360.8 kg/DAS) with a maximum possession limit of 30,000 lb (13,608 kg) per trip with potential increases in landing limits;

Establishment of a means to exempt for a 3-month period vessels fishing under charter/party regulations from regulations prohibiting fishing in GOM closed areas and of a prohibition on the use of DAS during that 3-month enrollment period; and

A prohibition on any limited access vessel from fishing under a multispecies DAS while taking passengers for hire.

Also, this action removes the requirement to report GOM cod trip limit overages by calling the cod hail line.

The intent of this action is to address overfishing of several stocks, in particular GOM and GB cod, and to achieve the rebuilding goals of the FMP for the 2000 multispecies fishing year.

DATES: Effective June 1, 2000, except §§ 648.10(f)(3)(ii), 648.14(a)(121), (b) introductory text, (b)(1), (c)(24), and (c)(30), 648.23(b)(4), 648.81(d) and (n), 648.86(a)(1), the removal of § 648.86(b)(1)(ii)(B) and (b)(1)(iii), and the revision of § 648.86(b)(2), which are effective May 1, 2000, and §§ 648.14(b)(2), 648.81(g)(2)(iii) and 648.89(e), which contain information collection requirements and are not effective until approved by the Office of Management and Budget (OMB). When OMB approval is received, the effective date of §§ 648.14(b)(2), 648.81(g)(2)(iii) and 648.89(e) will be announced in the Federal Register.

ADDRESSES: Copies of the Framework 33 document, its Regulatory Impact Review (RIR), the Environmental Assessment (EA), and other supporting documents for the framework action are available from Paul J. Howard, Executive Director, New England Fishery Management Council, 50 Water Street, Newburyport, MA 01950. These documents are also available online at http://www.nefmc.org.

Comments regarding the collection-of-information requirements contained in this final rule should be sent to Patricia A. Kurkul, Regional Administrator, Northeast Region, NMFS, One Blackburn Drive, Gloucester, MA 01930-2298 and to the Office of Information and Regulatory Affairs, Office of Management and Budget (OMB), Washington, DC 20503 (Attention: NOAA Desk Officer).

FOR FURTHER INFORMATION CONTACT: Richard A. Pearson, Fishery Policy Analyst, 978-281-9279.

SUPPLEMENTARY INFORMATION: Framework 33 was prepared by the New England Fishery Management Council (Council), under the rebuilding program established by Amendment 7 to the FMP. Amendment 7, which became effective on July 1, 1996, established a procedure for setting annual target TACs for GOM and GB cod, GB haddock, and GB and Southern New England (SNE) yellowtail flounder stocks and an aggregate TAC for the combined stocks of the other regulated multispecies simultaneously managed under the FMP. A Multispecies Monitoring Committee (MMC) was established to annually review the best available scientific information, set the annual target TACs, and identify management options to achieve FMP objectives for the regulated multispecies. The MMC annual review process provides an opportunity to evaluate the effectiveness of the multispecies management program and to make recommendations on the need for adjustments to the management program. Calculation of the annual TACs is based on the biological reference points of Fmax for GOM cod and F0.1 for the remaining stocks of cod, haddock, and yellowtail flounder. In consideration of the severely depleted status of GOM cod, the Council also directed the MMC to estimate a target TAC for GOM cod based on the more precautionary and conservative F0.1 reference point. For the 1999 fishing year, the Council used the F0.1 precautionary target as a goal to assure that the Fmax target was not exceeded. For the 2000 fishing year, the Council directed the MMC to estimate F0.1 for reference purposes. The adoption of measures designed to achieve a fishing mortality rate of F0.1 would increase the likelihood of actually achieving the target of Fmax.

The last full assessment of the five principal stocks managed under Amendment 7 was Stock Assessment Workshop 27 (SAW 27). The SAW 27 results were presented to the Council in August 1998. In July 1999, the SAW Northern Demersal Working Group (NDWG) met and prepared an updated assessment with data through 1998 for 11 groundfish stocks, including GOM and GB cod, GOM haddock, and GB and SNE yellowtail flounder. The MMC utilized the NDWG assessment results as the technical basis for its 1999 annual report to estimate the TACs for the five primary stocks and to develop the management options contained in the report.

In summary, the MMC report concluded that fishing mortality rates (F) on GOM cod and GB cod need to be reduced from calendar year 1998 fishing mortality rates for those species in order to achieve the Amendment 7 F targets. The 1998 GOM cod fishing mortality rate was 0.64, compared with the Amendment 7 mortality rate target of 0.27. The fishing mortality rate on GB cod was 0.26 in calendar year 1998, as opposed to the target rate of 0.18.

The Amendment 7 target levels do not reflect the Sustainable Fisheries Act (SFA) requirements. A management program for Atlantic cod (GOM and GB), haddock (GOM and GB), pollock, redfish, white hake, yellowtail flounder (GB, SNE, Mid-Atlantic and Cape Cod), windowpane flounder (north and south), winter flounder (GB, GOM, SNE/Mid-Atlantic), American plaice, white flounder, and Atlantic halibut that will meet the SFA requirements is currently being developed and analyzed as part of Amendment 13 to the Northeast Multispecies FMP.

Based on projected 2000 stock sizes and the Amendment 7 fishing mortality targets, the MMC proposed target TACs for the 2000 fishing year for the five primary stocks managed under Amendment 7 (GOM cod, GB haddock, GB cod, GB yellowtail flounder, and SNE yellowtail flounder). The MMC also provided an F0.1 target TAC for GOM cod for reference purposes. An aggregate target TAC for the remaining regulated multispecies was not provided in the 1999 MMC annual report, and the Council did not include an aggregate target TAC in the Framework 33 document. The target TACs for the 2000 fishing year, as proposed by the MMC, are as follows:

(In Metric Tons)
Species/area | 2000 Target TACs | 1999 Target TACs
Georges Bank cod | 4,145 | 5,354
Georges Bank haddock | 6,252 | 5,600
Georges Bank yellowtail flounder | 4,618 | 2,725
Southern New England yellowtail flounder | 951 | 1,115
Gulf of Maine cod (Fmax) | 1,918 | 1,340
Gulf of Maine cod (F0.1) | 1,118 | 782

To keep the target TACs from being exceeded, the MMC also provided the Council with four specific management options to achieve the GOM cod target TAC and with five alternative options to achieve the GB cod target TAC. The MMC GOM and GB cod options were based on DAS reductions, trip limits, area closures, and gear reductions in various combinations. These options relied, to a large extent, upon a continuation of many of the measures that were implemented for the 1999 multispecies fishing year under Framework Adjustments 27, 30, and 31.

The MMC report also contained options and recommendations for management of the recreational fishery, the haddock fishery, and other elements of the FMP.

In addition to the MMC recommendations, in September 1999, the Council also solicited proposals from the public. Six proposals were received from state and industry groups in response to this solicitation for initial consideration for Framework 33.

Following review, a proposal submitted by the Gulf of Maine Fishermen's Alliance (GOMFA) was recommended by the Groundfish Committee and the Council for subsequent analysis and inclusion as an option in the final Framework 33 document. The remaining industry proposals were consolidated into a single proposal by the Groundfish Committee, and this consolidated proposal was recommended by the Council for subsequent analysis and inclusion in the final Framework 33 document. Ultimately, four GOM cod proposals were included for analysis in the final Framework 33 document. These included two of the MMC options: the GOMFA option and the consolidated industry proposal.

The Council considered management measures for GOM cod, GB cod, and haddock separately in Framework 33. The Council also included measures in Framework 33 to regulate access to GOM closed areas by vessels that fish under charter/party regulations in order to prohibit the use of multispecies DAS when carrying passengers for hire and to change the Multispecies Large Mesh Permit Category qualification criteria and enrollment period.

There were several multispecies actions during the 1999 fishing year that modified the landing limits, area closures, and calculation of the allowance for trip limit overages: Framework 27 published on May 5, 1999 (64 FR 24066); an interim rule published on August 3, 1999 (64 FR 42042); Framework 30 published on August 3, 1999 (64 FR 42045); and Framework 31 published on January 5, 2000 (65 FR 377). A key reason why the MMC recommended, and the Council adopted, the measures in Framework 33 was to achieve the FMP fishing mortality objectives while maintaining some stability in the multispecies management program.

GOM Cod Measures

The most recent assessment of the status of GOM cod uses data from 1998. The status is similar to that in 1997: Recruitment is at record low levels, and spawning stock biomass is at the lowest level ever observed. However, the actual reduction in spawning stock biomass in 1999 was not as large as the 37-percent reduction predicted in the 1998 MMC report. A sensitivity analysis conducted by the MMC indicated that, if discarding did not appreciably increase in 1999, the 1999 GOM cod fishing mortality rate may be approaching the Amendment 7 target level.

In light of the extremely dire condition of GOM cod, the Council has progressively adopted more restrictive measures in the GOM to protect cod. These measures may be beginning to have the effect of reversing the downward trend in abundance of GOM cod. However, without reliable data on discarding and additional analysis of recent survey trawl data, it is currently not possible to be certain whether the measures are having such an effect. For this reason, in the annual report, the MMC recommended that the Council, at a minimum, continue with the current suite of measures in the GOM and also adopt additional measures to address discards and to help attain mortality objectives. The MMC's rationale for this recommendation, similar to its rationale for its recommendations for 1999, was that the adoption of measures designed to achieve a fishing mortality rate of F0.1 would increase the likelihood of actually achieving the target of Fmax.

The Council considered four options for GOM cod: The two MMC options, the GOMFA option, and the consolidated industry proposal. Upon analysis, the Groundfish Plan Development Team (PDT) determined that the GOMFA proposal and the consolidated industry proposal resulted in landings above the TAC associated with Fmax for GOM cod. Therefore, the Groundfish Committee and the Council focused their discussion on the two MMC options.

After due consideration, the Council rejected the MMC option that contained layover days and approved the MMC option that (1) included the existing method of counting DAS; (2) continued the area closures implemented in fishing year 1999; (3) extended for 1 year the WGOM closed area (originally scheduled to expire on May 1, 2001); (4) maintained the GOM daily cod landing limit of 400 lb/DAS (181.4 kg/DAS) with a maximum possession limit of 4,000 lb (1,814.4 kg) per trip; and (5) recommended the conditional closure of Cashes Ledge in November 2000, and a portion of Massachusetts Bay and Stellwagen Bank in January 2001, if preliminary landings data through July 31, 2000, indicate that more than 1.67 million lb (759 mt) of GOM cod have been landed.

The Council adopted the conditional closure strategy to discourage directed fishing on GOM cod during the first 3 months of the fishing year and to provide additional protection for GOM cod during early spawning aggregations if landings are high early in the year. The trigger (1.67 million lb (759 mt)) is established at a level that is 50 percent of the TAC midway between the TACs associated with F0.1 and Fmax. It is not set at such a low level that the conditional closures are a certainty. In order to rebuild the stock, the MMC, in recent years, has consistently recommended that there be no directed fishing on GOM cod. If commercial vessels make a conscientious effort to avoid directing effort on GOM cod, then the trigger level may not be achieved. On the other hand, if early GOM cod landings are high, the additional closures will provide essential protection to early spawning aggregations next January. In addition, a triggered closure is preferable to a triggered trip limit reduction because it does not create the discard problems that occurred last year with the lower GOM cod trip limits.

Although recent data indicate that the fishing mortality rate associated with landings of GOM cod for the 1999 fishing year may be approaching Fmax, the actual mortality could exceed Fmax if discarding was excessive in 1999. Because the fishing industry indicated that high discards occurred, it is prudent to establish the conditional closures to provide greater assurance of achieving the 2000 fishing mortality objectives, in light of existing uncertainty regarding the discard mortality that occurred in 1999.

GB Cod Measures

Framework 33 and this rule extend the current GB cod daily landing limit of 2,000 lb/DAS (907.2 kg/DAS), with a maximum possession limit of 20,000 lb (9,072 kg) per trip. Framework 33 and this rule also close an area to the east and southeast of Cape Cod to fishing for multispecies during the month of May. This area closure is intended to compensate for the removal in Framework 33 of the regulatory provision that gave the Regional Administrator the authority to reduce the GB cod trip limit in order to achieve the GB cod mortality objective.

Haddock Measures

In response to the continued growth in the GB haddock biomass projected for the fishing year starting May 1, 2000, and the below-target fishing mortality rate on that stock, Framework 33 and this rule increases the haddock daily landing limit during the May-September period to 3,000 lb/DAS (1,360.7 kg/DAS), or part of a DAS, with a maximum possession limit of 30,000 lb (13,608 kg) per trip. The daily landing limit will increase on October 1, 2000, to 5,000 lb/DAS (2,268 kg/DAS), with a maximum possession limit of 50,000 lb (22,680 kg) per trip. If, at any time during the fishing year, the Regional Administrator determines that a different trip limit is needed to land at least 75 percent of the target TAC, but not to exceed the TAC, NMFS may adjust the trip limit to the appropriate level by publishing a notification in the Federal Register.

Measures Regarding Access to GOM Closed Areas by Vessels Fishing Under Charter/party Regulations

The regulations implementing Amendment 7 to the FMP for the recreational and charter/party multispecies fishery differ from those for the commercial sector fishery. These rules included a larger minimum fish size, a prohibition on the sale of fish, and an exemption for vessels fishing under charter/party regulations from commercial trip limits and area closure restrictions.

The Council indicated concern about the application of the regulations to vessels fishing as charter/party vessels that have also qualified for multispecies limited access permits. These vessels may either fish commercially under a DAS and other commercial regulations, including a smaller minimum fish size and the ability to sell the catch, or fish under charter/party regulations. This is problematic because a vessel with a limited access permit fishing under charter/party regulations could fish as a charter/party vessel in a closed area, with no trip limit, on one day. Then, on the next day, the same vessel could fish under a DAS and, subsequently, sell the fish that were caught by fishing in the closed area on the previous day.

The Council seeks to alleviate the problem of commercial vessels switching to fishing under charter/party regulations by requiring charter/party vessels to obtain a certificate in exchange for access to the GOM closed areas. The Council considered three different options regarding the enrollment period for the certificate and recommended a 3-month enrollment period. As a condition of the certificate, the vessel owner must agree not to utilize DAS during the 3 months covered by the certificate. NMFS approved these recommendations in Framework 33 and implements them by this rule.

Prohibition on the Use of DAS When Carrying Passengers for Hire

The Council indicated that the ability of some vessels to carry passengers for hire while simultaneously fishing under limited access permits and under a DAS created a perceived inequity among charter/party vessels fishing in the same area and out of the same ports because charter/party vessels without limited access permits could not all avail themselves of the opportunity to fish commercially. Accordingly, to resolve the issue of which vessels may fish under the commercial regulations, the Council determined that it is appropriate to distinguish between vessels with passengers for hire and other, more traditional, commercial vessels. To do this, the Council recommended a measure in Framework 33 that prohibits vessels with limited access multispecies permits from fishing under a multispecies DAS while taking passengers for hire. NMFS approved this recommendation and implements it by this rule.

Disapproved Measure for Change in Large Mesh Permit Category

Amendment 7 to the Northeast Multispecies FMP established a Large Mesh Permit Category that provides an opportunity for gillnet and otter trawl vessels electing to fish with mesh larger than the minimum required size to be allocated an increase of 36 percent in their DAS. Otter trawl vessels in this permit category must fish with a mesh size no smaller than an 8-inch (20.3-cm) diamond mesh throughout the entire net. Currently, no trawl vessels are in the Large Mesh Permit Category.

Framework 33 includes a provision that would have reduced the minimum mesh size for otter trawl vessels fishing in the Large Mesh Permit Category from 8-inch (20.3-cm) to 7-inch (17.8-cm) and that would have reduced the DAS incentive from 36 percent additional DAS to 25 percent. Both gillnet and otter trawl vessels in this category would be able to exit this category after 1 month under Framework 33, rather than having to commit to it for the entire fishing year, as currently required.

NMFS believes that making the Large Mesh Permit Category more attractive for trawl vessels is a reasonable objective. However, no scientific analysis was provided in Framework 33 to correlate a 7-inch (17.8-cm) minimum trawl mesh size with a corresponding 25-percent increase in allocated DAS. The Framework document indicates this is because of the lack of selectivity data for 7-inch (17.8-cm) and 8-inch (20.3-cm) trawl net codend mesh sizes and because of the inability to predict the level of participation that might occur as a result of this change. For these reasons, the Framework 33 document states that the net impact on fishing mortality cannot be determined at this time.

NMFS has disapproved this measure because it may not be conservation-neutral and, therefore, would not be consistent with national standard 1. There is currently not enough information on the potential biological impacts to justify the approval of a measure that could have the effect of increasing effort, or DAS, at a time when two important stocks require a reduction in fishing mortality. Under the annual adjustment framework procedures, this measure may be disapproved because it is not integral to either the overall set of measures recommended by the Council or the analysis of impacts prepared for this rule.

Technical Changes

The implementation of the interim rule published on August 3, 1999 (64 FR 42042), and regulations for Framework Adjustment 31 published on January 5, 2000, (65 FR 377), render the GOM cod landing limit hail line unnecessary and is removed by this rule. The final rule implementing Framework Adjustment 20 (62 FR 15381, April 1, 1997) implemented a measure to allow vessel operators who exceeded the landing limit of cod to retain excess fish but not to call-out of the multispecies DAS program until total DAS per trip corresponded to the total allowable weight of cod off-loaded per trip. There was only an indirect limit on the running clock, which required vessels to call-out of the DAS program after 14 days. Vessels that exceeded the cod landing limit were required to report their hailed weight of cod on board under a separate call-in system upon entering port. Interim regulations published August 3, 1999 (64 FR 42042), and made permanent by a final rule implementing Framework 31 (65 FR 377, January 5, 2000) implemented measures that revised the method used to count DAS in relation to the daily GOM cod trip limit and limited the amount of allowed overage to the equivalent of 1 day's landing limit. Because the running clock is now limited to no more than a 24-hour period, the requirement to call the GOM cod landing limit hail line is no longer necessary and is removed by this rule. Accordingly, to eliminate the hail line, §§ 648.10(f)(3)(ii) and 648.14(c)(24) are amended; § 648.86(b)(1)(ii)(B) is removed and reserved; and § 648.86(b)(1)(iii) is removed.

In § 648.14(b), a reference to a letter of authorization that has not been available since 1998 is removed by this rule.

In § 648.14(c), a reference to a letter of authorization that has not been available since 1998 is removed by this rule.

In § 648.80(h)(2), the requirement for combination vessels to comply with all of the trip limits specified in § 648.80, unless otherwise restricted by § 648.86, has been modified to reflect the restriction added to § 648.86 by the recently implemented halibut trip limit. Due to an oversight, this modification was not made in the regulations when the halibut trip limit was originally implemented (64 FR 55821, October 15, 1999).

Abbreviated Rulemaking

NMFS is making these revisions to the regulations under the framework abbreviated rulemaking procedure codified at 50 CFR part 648, subpart F. This procedure requires the Council, when making specifically allowed adjustments to the FMP, to develop and analyze the actions over the span of at least two Council meetings at which comments are accepted. The Council must provide the public with advance notice of both the framework proposals and the associated analysis and provide an opportunity to comment upon them specifically before and during the second Council meeting. Upon review of the analysis and public comment, the Council may recommend to the Regional Administrator that the measures be published as a final rule or, if additional public comment is necessary, as a proposed rule. The initial and final meetings for Framework 33 were on November 16-19, 1999, and January 18-20, 2000, respectively. The Council's Groundfish Committee and Industry Advisory Panel also held joint meetings and took public comment on the proposals on November 10-11 and December 13, 1999. The Industry Advisory Panel and Groundfish committee also met separately on January 13 and 14, 2000, respectively.

Documents summarizing the Council's proposed action and the analysis of biological, economic, and social impacts of this and alternative actions were available for public review 1 week before the final meeting, as required under the framework adjustment process. Written comments were accepted up to, and during, that meeting. A summary of oral and written comments received by the Council during the time period when Framework Adjustment 33 was being developed, and responses thereto, follow.

Comments and Responses

Comment 1: Several fishing industry members and industry representatives supported the GOMFA Option for GOM cod (Option 4) because, by opening certain areas to fishing, it provided a greater opportunity for inshore vessels to fish on other regulated multispecies with reduced cod bycatch. They also commented that the GOMFA proposal would reduce fishing effort in important inshore grounds during the cod spawning season by limiting DAS or trips to 25 from February through May.

Response: The Council considered Option 4, but rejected it because the analysis indicated the measures would result in GOM cod landings above the target TAC. The Council provided the proponents of this option several opportunities to modify the measures so that it could achieve the FMP objectives. The final version of the proposal did not meet the conservation goals of the FMP.

Comment 2: Several fishing industry members, industry representatives, and elected officials from the City of Gloucester expressed support for continuing the 1999 fishing year measures for GOM cod without the conditional closures. They expressed concern regarding the impacts of any additional closures on the City of Gloucester.

Response: In order to evaluate these concerns, a supplemental examination of a study fleet was conducted by NMFS to assess vessel gross revenues from species harvested both inside and outside the GOM. The study fleet was composed of vessels from Gloucester for the fishing years 1995 to 1998. The study concluded that the overall number of trips and vessels declined during the study period. Sixteen vessels exited the fishery for unknown reasons, possibly as a result of the buyout program, unseaworthiness, or economic insolvency. Similarly, the total number of trips declined each year. However, unlike the downward trend in numbers of vessels, trips, and average revenue for the vessels in the study fleet for the entire time period increased by about 6 percent. The increased vessel revenues were primarily derived from species in other areas outside the GOM. Over the study period, the contribution of multispecies from other areas to average vessel revenues rose from 18 percent to 43 percent, while the contribution of GOM multispecies to average vessel revenues correspondingly decreased from 52 percent to 33 percent. The study also indicated that for vessels less than or equal to 45 ft (13.7 m) in length, average revenue per vessel declined by about 8.5 percent during the study period.

The study results indicate that, overall, Gloucester vessels have been able to compensate for management measures implemented in the past 4 years by increasing the amount of revenue obtained from species in stock areas outside the GOM. However, smaller vessels, which have more limited mobility, are less able to fish outside the GOM and, thus, were not able to compensate as well by fishing in other stock areas.

Comment 3: Members of the fishing industry, including the Council's Industry Advisory Panel, recommended that the Council not change the method of counting DAS on the first day of a trip to count any fishing trip less than 24 hours automatically as either 15 hours or 24 hours. The commenters were concerned about the uneven distribution of impacts between day boats and trip boats as a result of this proposal.

Response: The Council considered these comments, as well as available analysis, and decided not to change the method of counting DAS at this time. The Council noted that it may consider the concept further in Amendment 13, as recommended by the Industry Advisory Panel.

Comment 4: Several fishing industry members commented that the layover days proposed in the MMC Option (Option 1) were unfair because the proposal would impact some sectors of the fleet, while having minimal impact on other sectors. They noted that, while the measure was intended to reduce excessive fishing during periods when GOM cod are most readily available, it would also impact vessels fishing in the GOM that do not catch significant amounts of cod. They also raised safety concerns with layover days during November and December because it could create longer trips. These commenters supported the area closure options in MMC Option 2 that would be focused on the times and areas where cod is caught.

Response: Based on these public comments, the Council rejected the layover-day option in MMC Option 1 and adopted Option 2, which includes conditional area closures to prevent exceeding the target TAC.

Comment 5: Several recreational fishermen and recreational fishing associations and clubs urged the Council not to further restrict recreational fishing. They stated that until the fishing effort on the commercial sector was sufficiently controlled and no longer exceeded the target TAC, restrictions on the recreational sector were not justified. They also stated that the recreational sector had achieved its reductions. On the same subject, several commercial industry members commented that it is unfair and contrary to the rebuilding strategy of the FMP to allow party and charter vessels, which they considered to be commercial vessels, to fish in the closed areas, particularly during the spawning season. They noted that the current regulations make it too easy for vessels to fish as party or charter vessels in the closed areas and, then, sell their catch.

Response: The Council considered the best data available on the recreational and charter/party sector and determined that additional restrictions on the recreational harvest are not warranted at this time, largely because reductions in recreational landings, in terms of numbers of cod, appear to be relatively consistent with reductions in commercial landings to date. Effort from the recreational sector has not increased in recent years. However, in response to these concerns, the Council adopted a requirement for charter/party vessels to obtain a letter of authorization that allows these vessels to gain access to the GOM closed areas for a minimum of 3 months. During this 3-month period, a charter/party vessel may not fish under a DAS, and is, therefore, prohibited from selling any of the regulated multispecies.

Comment 6: Several individuals and the Industry Advisory Panel members questioned the appropriateness of the proposed 36-percent increase in allocated DAS for otter trawl vessels that enroll in the Large Mesh Permit Category when the minimum mesh size would have been reduced from 8 inches (20.3 cm) to 7 inches (17.7 cm). They commented that the proposal may result in an increase in fishing mortality.

Response: The Council modified its original proposal so that otter trawl vessels in the Large Mesh Permit Category would receive a 25-percent increase in allocated DAS rather than a 36-percent increase. NMFS has subsequently disapproved the measure due to a lack of information on the effect of this measure on fishing mortality.

Classification

The Regional Administrator determined that this annual framework adjustment to the Northeast Multispecies FMP is necessary for the conservation and management of the Northeast multispecies fishery and that it is consistent with the Magnuson-Stevens Act and other applicable laws.

The Assistant Administrator for Fisheries, NOAA (AA), finds that, because public meetings held by the Council to discuss the management measures implemented by this rule provided adequate prior notice and opportunity for public comment, further notice and opportunity to comment on this rule is unnecessary. Because of the need to reduce or maintain fishing mortality rates below the Amendment 7 rebuilding targets at the start of the fishing year on May 1, 2000, it would also be contrary to the public interest to provide further notice and further opportunity for public comment. Also, because the technical amendments to the rule merely remove outdated regulatory text and add cross-references to the recently implemented halibut trip limit that were inadvertently left out of the rule implementing that trip limit, they do not effect a substantive change to the existing regulations; thus, prior notice and opportunity for public comment are unnecessary. Therefore, the AA, under 5 U.S.C. 553(b)(B), finds good cause to waive prior notice and opportunity for public comment on this rule.

The AA finds, under 5 U.S.C. 553(d)(1), that it is unnecessary to delay for 30 days the effective date of provisions increasing the haddock trip limit and removing the requirement to report GOM cod trip limit overages to the cod hail line because they relieve restrictions. The haddock landing limit was increased during fishing year 1999 from 2,000 lb/DAS (907.2 kg/DAS), with a maximum possession limit of 20,000 lb (9.071.8 kg) per trip, to a haddock landing limit of 5,000 lb/DAS (2,268 kg/DAS), with a maximum possession limit of 50,000 lb (22,680 kg) per trip, for the period November 5, 1999, through April 30, 2000. However, beginning on May 1, 2000, the haddock trip limit reverts to 2,000 lb/DAS (907.2 kg/DAS), with a maximum possession limit of 20,000 lb (9.071.8 kg) per trip. To implement Framework 33, this rule relieves a restriction by increasing the landing limit to 3,000 lbs/DAS (2,268 kg/DAS), with a maximum possession limit of 30,000 lb (13,680 kg) per trip. With the recent modifications to the running clock provision (64 FR 42042, August 3, 1999, and 65 FR 377, January 5, 2000), the requirement to call the cod hail line is no longer necessary. Because increasing the haddock landing limits and removing the requirement to call the cod hail line relieve restrictions, the AA finds, under 5 U.S.C. 553(d)(1), that it is not necessary to delay for 30 days the effectiveness of the revised haddock landing limits in §§ 648.86(a)(1)(i) through (iii) and related prohibition in § 648.14(b)(1), and the revisions to §§ 648.10(f)(3)(ii), and 648.14(c)(24); and the removal of § 648.86(b)(1)(ii)(B) and (b)(1)(iii).

Implementation of the GB Seasonal Area Closure contained in § 648.81(n) for the month of May effective on May 1, 2000, is necessary to reduce the risk of exceeding the target TAC and to increase the likelihood of achieving GB cod mortality objectives. Fishermen will be notified of the GB Seasonal Area Closure and of the continuation of the GB cod possession limits via NOAA weather radio, Coast Guard announcements, and letters to permit holders. Also effective on May 1, 2000, are related transiting and stowage provisions for the GB Seasonal Area Closure contained in §§ 648.23(b)(4) and 648.81(d) and related prohibitions contained in § 648.14(a)(121) and (c)(30). Implementation of those provisions at the same time as the closure is necessary for enforcement of that closure. In addition, the GB Seasonal Area Closure is intended to compensate for this rule's removal of the regulatory provision that gave the Regional Administrator the authority to reduce the GB cod trip limit in order to achieve the GB cod mortality objective. Because this removal of the Regional Administrator's authority does not affect the public and is counterbalanced by another provision promoting the conservation of cod, delaying the removal of that authority is unnecessary. Therefore, the AA finds good cause under 5 U.S.C. 553(d)(3) not to delay for 30 days the effectiveness of the GB Seasonal Area Closure contained in § 648.81(n) and in related transiting and stowage provisions and prohibitions and the removal of the Regional Administrator's authority to reduce the GB cod trip limit contained in § 648.86(b)(2).

Because prior notice and opportunity for public comment are not required for this rule by 5 U.S.C. 551 et seq., or any other law, the analytical requirements of the Regulatory Flexibility Act, 5 U.S.C. 601 et seq., are inapplicable. Consequently, a regulatory flexibility analysis has not been prepared. Nevertheless, the socioeconomic impacts on affected small entities were considered in the Regulatory Impact Review (RIR) contained in the supporting analysis for Framework 33. Also, various alternatives that would have different impacts on various fleet sectors and fishing communities were taken into consideration by the Council, consistent with national standard 8 of the Magnuson-Stevens Act. In addition, in response to public comments, NMFS examined a study fleet in Gloucester, MA, to assess the impacts of recent management measures on vessel revenues.

The short-term impacts of the measures were summarized in the RIR. Virtually all entities affected by this rule are small entities. No change in revenues and costs are expected from 1999 as a result of a continuation of the existing GOM closures and landing limits for the fishing year 2000. If the conditional GOM cod closures are implemented, the analysis indicates that a reduction in fleet revenues ranging from $161,600 (if 75 percent of the fishing trips are redirected into other open areas), to $646,500 (if vessels do not redirect any effort into other open areas) will occur. Reauthorization of the WGOM closure for an additional year will result in a potential fleet revenue loss, ranging between $1.8 million (if 75 percent of the fishing trips are redirected into other open areas) and $7.4 million (if vessels do not redirect any effort into other open areas). The analysis also indicated that, if the WGOM area were reopened, other restrictions on catch and effort would likely be required. The GB Seasonal Area Closure in May will result in a total revenue decline for groundfish vessels between $0.3 million (if 100 percent of the fishing trips are redirected into other open areas) and $4.1 million (if vessels do not redirect any effort into other open areas). The analysis of the economic impact of the requirement for charter/party vessels to obtain a letter of authorization to fish in GOM closed areas indicates that one vessel would lose 7 percent of its annual income. The prohibition on vessels fishing under a DAS when carrying passengers for hire could have negative impacts, but the magnitude could not be quantified. The haddock trip limit and TAC increases provide an opportunity for increased revenues because it would allow fishermen to land more fish, but the extent of the increase was not quantifiable.

Notwithstanding any other provision of law, no person is required to respond to nor shall any person be subject to a penalty for failure to comply with a collection of information subject to the requirements of the Paperwork Reduction Act (PRA) unless that collection of information displays a currently valid OMB control number.

This rule contains a collection-of-information requirement subject to the PRA. This collection-of-information requirement has been submitted to OMB for approval. The estimated time per response for a telephone call to request a Multispecies Charter/party GOM Closed Area Exemption Certificate is 2 minutes. The estimated total annual cost to the public is $264.00 (528 respondents X $.50) for the telephone call.

Public comment is sought regarding whether this proposed collection of information is necessary for the proper performance of the functions of the agency, including whether the information will have practical utility; the accuracy of the burden estimate; ways to enhance the quality, utility, and clarity of the information to be collected; and ways to minimize the burden of the collection of information, including the use of automated collection techniques or other forms of information technology. Send comments regarding these reporting burden estimates or any other aspect of the collection of information, including suggestions for reducing the burden, to NMFS and OMB (see ADDRESSES).

This final rule has been determined to be not significant for the purposes of E.O. 12866.

List of Subjects in 50 CFR Part 648

Fisheries, Fishing, Reporting and Recordkeeping requirements.

Dated: April 12, 2000.
Andrew A. Rosenberg,
Deputy Assistant Administrator for Fisheries, National Marine Fisheries Service.

For the reasons set out in the preamble, 50 CFR part 648 is amended as follows:

PART 648—FISHERIES OF THE NORTHEASTERN UNITED STATES

1. The authority citation for part 648 continues to read as follows:

Authority: 16 U.S.C. 1801 et seq.

2. In § 648.10, paragraph (f)(3)(ii) is revised to read as follows:

§ 648.10 DAS notification requirements.

* * * * *

(f) * * *

(3) * * *

(ii) A vessel subject to the cod landing limit restriction specified in § 648.86(b)(1)(i) that exceeds or is expected to exceed the allowable limit of cod based on the duration of the trip must enter port no later than 14 DAS after starting a multispecies DAS trip. Such vessel must remain in port, unless for transiting purposes as allowed in § 648.86(b)(3), until sufficient time has elapsed to account for and justify the amount of cod on board in accordance with § 648.86(b)(1)(ii), and may not begin its next fishing trip until the vessel has called out of the multispecies DAS program to end its trip.

3. In § 648.14, paragraphs (a)(52), (b), and (c)(24) are revised; paragraph (c)(31) is redesignated as paragraph (c)(27); newly redesignated paragraph (c)(27) is revised; and paragraphs (a)(121), and (c)(28) through (c)(31) are added to read as follows:

§ 648.14 Prohibitions.

(a) * * *

(52) Enter, be on a fishing vessel in, or fail to remove gear from, the EEZ portion of the areas described in § 648.81 (g)(1) through (i)(1), and (o)(1) if effective during the time periods specified, except as provided in § 648.81(d), (g)(2), (h)(2), and (i)(2).

* * * * *

(121) Enter, be on a fishing vessel in, or fail to remove gear from, the EEZ portion of the areas described in § 648.81(n) during the time periods specified, except as provided in § 648.81(d) and (n)(2).

(b) In addition to the general prohibitions specified in § 600.725 of this chapter and in paragraph (a) of this section, it is unlawful for any owner or operator of a vessel holding a valid multispecies permit, or any person issued an operator's permit or issued a letter under § 648.4(a)(1)(i)(M)(3), to do any of the following:

(1) Land, or possess on board a vessel, more than the possession or landing limits specified in § 648.86(a), (b), (c), (d), and (e), or to violate any of the other provisions of § 648.86, unless otherwise specified in § 648.17.

(2) If the vessel has been issued a charter/party permit or is fishing under charter/party regulations, fail to comply with the requirements specified in § 648.81(g)(2)(iii) when fishing in the areas described in § 648.81(g)(1) through (i)(1), and (o)(1) if it becomes effective, during the time periods specified in those sections.

(c) * * *

(24) Enter port, while on a multispecies DAS trip, in possession of more that the allowable limit of cod specified in § 648.86(b)(1)(i), unless the vessel is fishing under the cod exemption specified in § 648.86(b)(4). Under no circumstances may such trip exceed 14 days in length.

* * * * *

(27) Possess or land per trip more than the possession or landing limit specified under § 648.86(c).

(28) Participate in the DAS program pursuant to § 648.82 when carrying passengers for hire on board the vessel during any portion of a fishing trip.

(29) Enter, be on a fishing vessel in, or fail to remove gear from, the areas described in § 648.81(g)(1) through (i)(1), and paragraph (o)(1) if it becomes effective, during the time periods specified, except as provided in § 648.81(d), (g)(2), (h)(2) and (i)(2).

(30) Enter, be on a fishing vessel in, or fail to remove gear from, the areas described in § 648.81(n) during the time periods specified, except as provided in § 648.81(d) and (n)(2).

(31) If the vessel has been issued a Charter/Party permit or is fishing under charter/party regulations, fail to comply with the requirements specified in § 648.81(g)(2)(iii) when fishing in the areas described in § 648.81(g)(1) through (i)(1), and (o)(1) if it becomes effective, during the time periods specified in those sections.

* * * * *

4. In § 648.23, paragraph (b)(4) is revised to read as follows:

§ 648.23 Gear restrictions.

* * * * *

(b) * * *

(4) On-reel stowage for vessels transiting the GOM Rolling Closure Areas, the GB Seasonal Area Closure, and the Conditional Gulf of Maine Rolling Closure Area.

* * * * *

5. In § 648.80, paragraph (h)(2) is revised to read as follows:

§ 648.80 Multispecies regulated mesh areas and restrictions on gear and methods of fishing.

* * * * *

(h)* * *

(2) Combination vessels fishing under a NE multispecies DAS are subject to the gear restriction specified in § 648.80 and may possess and land unlimited amounts of regulated species, unless otherwise restricted by § 648.86. Such vessels may simultaneously fish under a scallop DAS.

* * * * *

6. In § 648.81, paragraphs (d), (g)(1)(vi), (g)(2)(iii), and (i)(1) are revised, and paragraphs (n) and (o) are added to read as follows:

§ 648.81 Multispecies closed areas.

* * * * *

(d) Transiting. Vessels may transit Closed Area I, the Nantucket Lightship Closed Area, the GOM Rolling Closure Areas, the Cashes Ledge Closure Area, the Western Gulf of Maine Closure Area, the Georges Bank Seasonal Area Closure, and the Conditional Cashes Ledge and Gulf of Maine Rolling Closure Areas (if applicable), as defined in paragraphs (a)(1), (c)(1), (f)(1), (g)(1), (h)(1), (i)(1), (n)(1), and (o)(1), respectively, of this section, provided that their gear is stowed in accordance with the provisions of paragraph (e) of this section.

* * * * *

(g) * * *

(1) * * *

(vi) Rolling Closure Area VI. From February 1 through February 28, or February 29 if applicable, the restrictions specified in paragraph (g)(1) of this section apply to Rolling Closure Area VI, which is the area bounded by the straight lines connecting the following points in the order stated:

Rolling Closure Area VI
[February 1 - February 28]
Point | N. Lat. | W. Long.(¹)
GM1 | 42°00' | (²)
GM2 | 42°00' | (³)
GM3 | 42°00' | (⁴)
GM4 | 42°00' | 70°00'
GM8 | 42°30' | 70°00'
GM9 | 42°30' | (²)
¹ or other intersecting line:
² Massachusetts shoreline
³ Cape Cod shoreline on Cape Cod Bay
⁴ Cape Cod shoreline on the Atlantic Ocean

(2) * * *

(iii) That are fishing under charter/party or recreational regulations, provided that—

(A) For vessels fishing under charter/party regulations, it has on board a letter of authorization issued by the Regional Administrator, which is valid for a minimum enrollment period of 3 months;

(B) Fish harvested or possessed by the vessel are not sold or intended for trade, barter or sale regardless of where the fish are caught;

(C) The vessel has no gear other than rod and reel or handline gear on board; and

(D) The vessel does not use any DAS during the entire period of enrollment.

* * * * *

(i) Western GOM Area Closure. (1) From May 1, 1998, through April 30, 2002, no fishing vessel or person on a fishing vessel may enter, fish in, or be in and no fishing gear capable of catching multispecies, unless otherwise allowed in this part, may be in, or on board a vessel in, the area known as the Western GOM Area Closure (a chart depicting this area is available from the Regional Administrator upon request, see Table 1 to § 600.502 of this chapter), as defined by straight lines connecting the following points in the order stated, except as specified in paragraphs (d) and (i)(2) of this section:

Western GOM Area Closure
Point | N. Lat. | W. Long.
WGM1 | 42°15' | 70°15'
WGM2 | 42°15' | 69°55'
WGM3 | 43°15' | 69°55'
WGM4 | 43°15' | 70°15'
WGM1 | 42°15' | 70°15'

* * * * *

(n) Georges Bank Seasonal Closure Area. (1) From May 1 through May 31, no fishing vessel or person on a fishing vessel may enter, fish in, or be in, and no fishing gear capable of catching multispecies, unless otherwise allowed in this part, may be in the area known as the Georges Bank Seasonal Closure Area as defined as the straight lines connecting the following points in the order stated, except as specified in paragraphs (d) and (n)(2) of this section:

Georges Bank Seasonal Closure Areas
[May 1 - May 31]
Point | N. Lat. | W. Long.
GB1 | 42°00' | (¹)
GB2 | 42°00' | 67°20'
GB3 | 41°30' | 67°20'
GB4 | 41°30' | 69°23'
GB5 | (²) | 69°00'
GB6 | 41°00' | 69°00'
GB7 | 41°00' | 70°00'
GB1 | 42°00' | (¹)
¹ Cape Cod shoreline on Atlantic Ocean.
² Western boundary of Closed Area 1.

(2) Paragraph (n)(1) of this section does not apply to persons on fishing vessels or to fishing vessels:

(i) That meet the criteria in paragraph (g)(2)(i) or (ii) of this section;

(ii) That are fishing as charter/party or recreational vessels; or

(iii) That are fishing with or using scallop dredge gear when fishing under a scallop DAS or when lawfully fishing in the Scallop Dredge Fishery Exemption Area as described in § 648.80(a)(10), provided the vessel uses an 8-inch (20.3-cm) twine top and complies with the multispecies possession restrictions for scallop vessels specified at § 648.80(h).

(o) Conditional Cashes Ledge & Gulf of Maine Rolling Closure Areas. (1) If the Regional Administrator determines that at least 50 percent of the average between the F0.1 target TAC and the Fmax target (an amount equal to 1.67 million lb (759 mt) for the 2000 - 2001 fishing year) has been landed as of, or before, July 31 of each year, NMFS, through a timely notification action in the Federal Register, shall implement the following closures:

(i) Cashes Ledge Closure Area. From November 1 through November 30, no fishing vessel or person on a fishing vessel may enter, fish in, or be in, and no fishing gear capable of catching NE multispecies, unless otherwise allowed in this part, may be in, or on board a vessel in, the area known as the Cashes Ledge Closure Area, as described in § 648.81(h)(1), except as provided in § 648.81(h)(2); and

(ii) Rolling Closure Area VI. From January 1 through January 31, no fishing vessel or person on a fishing vessel may enter, fish in, or be in, and no fishing gear capable of catching NE multispecies, unless otherwise allowed in this part, may be in, or on board a vessel in, the area known as Rolling Closure Area VI, as described in § 648.81(g)(1)(vi), except as provided in § 648.81(g)(2).

6. In § 648.82, paragraphs (a) introductory text and (a)(2) are revised to read as follows:

§ 648.82 Effort-control program for multispecies limited access vessels.

(a) Except as provided in §§ 648.17 and 648.82(a)(2), a vessel issued a limited access multispecies permit may not fish for, possess, or land regulated species, except during a DAS as allocated under and in accordance with the applicable DAS program described in this section, unless otherwise provided elsewhere in this part.

* * * * *

(2) Notwithstanding any other provision of this part, any vessel issued a multispecies limited access permit may not call into the DAS program or fish under a DAS, if such vessel carries passengers for hire for any portion of a fishing trip.

* * * * *

8. In § 648.86, paragraphs (a)(1) and (b)(2) are revised; paragraph (b)(1)(ii)(B) is removed and reserved; and paragraph (b)(1)(iii) is removed:

§ 648.86 Multispecies possession restrictions.

* * * * *

(a) * * *

(1) NE multispecies DAS vessels. (i) From May 1 through August 31, except as provided in paragraph (a)(1)(iii) of this section, a vessel that fishes under a NE multispecies DAS may land up to 3,000 lb (1,360.8 kg) of haddock per DAS fished, or any part of a DAS fished, up to 30,000 lb (13,608 kg) per trip, provided it has at least one standard tote on board. Haddock on board a vessel subject to this landing limit must be separated from other species of fish and stored so as to be readily available for inspection.

(ii) From September 1 through April 30, except as provided in paragraph (a)(1)(iii) of this section, a vessel that fishes under a NE multispecies DAS may land up to 5,000 lb (2,268 kg) of haddock per DAS fished, or any part of a DAS fished, up to 50,000 lb (22,680 kg) per trip, provided it has at least one standard tote on board. Haddock on board a vessel subject to this landing limit must be separated from other species of fish and stored so as to be readily available for inspection.

(iii) Adjustments—(A) Adjustment to haddock trip limit to prevent exceeding target TAC. At any time during the fishing year, if the Regional Administrator projects that the target TAC for haddock (6,252 mt for 2000-2001 fishing year) will be exceeded, NMFS may adjust, through publication of a notification in the Federal Register, the trip limit per DAS and/or the maximum trip limit to an amount that the Regional Administrator determines will prevent exceeding the target TAC.

(B) Adjustment of the haddock trip limit to allow harvesting up to 75 percent of target TAC. At any time during the fishing year, if the Regional Administrator projects that less than 75 per cent of the target TAC for haddock (4,689 mt for 2000-2001 fishing year) will be harvested by the end of the fishing year, NMFS may adjust, through publication of a notification in the Federal Register, the trip limit per DAS and/or the maximum trip limit to an amount that is determined to be sufficient to allow harvesting of at least 75 percent of the target TAC, but not to exceed the target TAC.

* * * * *

(b) * * *

(2) Georges Bank Cod Landing and Maximum Possession Limits. For each fishing year, beginning on May 1, a vessel that is exempt from the landing limit described in paragraph (b)(1) of this section fishing under a NE multispecies DAS may land only up to 2,000 lb (907.2 kg) of cod per DAS, or any part of a DAS, up to a maximum possession limit of 20,000 lb (9,071.8 kg) per trip. The vessel must have a standard tote on board. Cod on board a vessel subject to these landing and maximum possession limits must be separated from other species of fish and stored so as to be readily available for inspection.

* * * * *

9. In § 648.89, paragraph (e) is added to read as follows:

§ 648.89 Recreational and charter/party restrictions.

* * * * *

(e) Charter/party vessel restrictions on fishing in Gulf of Maine closed areas and the Nantucket Lightship Closed Area.

(1) Gulf of Maine Closed Areas. A vessel fishing under charter/party regulations may not fish in the Gulf of Maine closed areas specified in § 648.81(g)(1) through (i)(1), and (o)(1) if it becomes effective, during the time periods specified in those sections, unless the vessel has on board a letter of authorization issued by the Regional Administrator pursuant to §§ 648.81(g)(2)(iii) and 648.89(e)(3). The letter of authorization is valid for a period of 3 months.

(2) Nantucket Lightship Closed Area. A vessel fishing under charter/party regulations may not fish in the Nantucket Lightship Closed Area specified in § 648.81(c)(1) unless the vessel has on board a letter of authorization issued by the Regional Administrator pursuant to §§ 648.81(c)(2)(iii) and 648.89(e)(3).

(3) Letters of Authorization. To obtain either of the letters of authorization specified in § 648.89(e)(1) and (e)(2), a vessel owner must request a letter from the Northeast Regional Office of NMFS, either in writing or by phone (see Table 1 to § 600.502 of this chapter). As a condition of these letters of authorization, the vessel owner must agree to the following:

(A) The letter of authorization must be carried on board the vessel during the period of participation;

(B) Fish harvested or possessed by the vessel may not be sold or intended for trade, barter or sale, regardless of where the fish are caught;

(C) The vessel has no gear other than rod and reel or handline gear on board; and

(D) For the Gulf of Maine charter/party closed area exemption only, the vessel may not use any multispecies DAS during the period of participation.

[FR Doc. 00-9533 Filed 4-19-00; 11:47 am]

BILLING CODE 3510-22-F